DEPARTMENT OF HEALTH AND HUMAN SERVICES

National Institutes of Health

National Cancer Institute; Amended Notice of Meeting

Notice is hereby given of a change in the meeting of the National Cancer Institute Board of Scientific Advisors, June 26, 2003, 8 a.m. to June 27, 2003, 6 p.m., National Cancer Institute, 9000 Rockville Pike, Building 31, C Wing, 6th Floor, Conference Room 10, Bethesda, MD 20892 which was published in the Federal Register on May 21, 2003, 68 FR 27837.

This meeting is amended to change the closing time on 06/27/03 to 1 p.m. The meeting is open to the public.

Dated: May 29, 2003.
LaVerne Y. Stringfield,
Director, Office of Federal Advisory Committee Policy.

[FR Doc. 03-14261 Filed 6-5-03; 8:45 am]

BILLING CODE 4140-01-M